FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 10, 2019.

A. Federal Reserve Bank of Cleveland (Nadine Wallman, Vice President) 1455 East Sixth Street, Cleveland, Ohio 44101-2566. Comments can also be sent electronically to Comments.applications@clev.frb.org:

1. William Buffin Clarke, Russell, Kentucky, individually, and as part of the William Buffin Clarke Family Control Group, consisting of William Buffin Clarke; Gale L. Clarke, Russell, Kentucky; James R. Clarke, Louisville, Kentucky; and Patrick B. Clarke, Russell, Kentucky; to retain and acquire voting shares of First & Peoples Bancshares, Inc., Russell, Kentucky, parent of First & Peoples Bank and Trust Company, Russell, Kentucky.

B. Federal Reserve Bank of Kansas City (Dennis Denney, Assistant Vice President) 1 Memorial Drive, Kansas City, Missouri 64198-0001:

1. Thomas H. Olson, Jr., Lincoln, Nebraska; to acquire voting shares of O & F Cattle Company, parent of Nebraska State Bank, both of Oshkosh, Nebraska.

2. Thomas H. Olson, Jr., Lincoln, Nebraska; to acquire voting shares of First National Financial Corporation, parent of Bank of Estes Park, both of Estes Park, Colorado.

3. Thomas H. Olson, Jr., Lincoln, Nebraska; to acquire voting shares of First Nebraska Bancs, Inc., Sidney, Nebraska, parent of Points West Community Bank, Sidney, Nebraska and Points West Community Bank, Windsor, Colorado.

Board of Governors of the Federal Reserve System, September 16, 2019.
Yao-Chin Chao,
Assistant Secretary of the Board.

[FR Doc. 2019-20357 Filed 9-19-19; 8:45 am]

BILLING CODE P